DEPARTMENT OF COMMERCE

National Oceanic and Atmospheric Administration

RIN 0648-XA043

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene two webinars of the Gag Update Assessment Work Group.

DATES: The first webinar will convene at 9 a.m. on Monday, December 6, 2010 and conclude by 1 p.m. and the second will convene at 9 a.m. on Thursday, December 9, 2010 and conclude by 1 p.m.

ADDRESSES: The meetings will convene via webinar.

Council Address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: The Gag Update Assessment Work Group will convene to re-run a gag update assessment that was originally run in 2009. The purpose of the re-run is to address two issues recently discovered in the assessment inputs. In the original run, an incorrect size distribution estimate of undersized caught-and-released fish from the recreational private and for-hire fishery was used. In addition, the original update assessment estimated dead discards from the commercial gag fishery to be about 5,000 fish per year based on logbook reports and depth distribution of the catch. However, more recent estimates of dead discards based on observer data have been on the order of 200,000 pounds of fish. A re-run of the assessment with adjustments to these inputs could result in a revision to the catch limits needed to rebuild the stock, which has been declared to be overfished and undergoing overfishing.

At the first webinar, on December 6, 2010, the Work Group and National Marine Fisheries Service assessment biologists will determine what changes to the assessment inputs are needed to address the above issues. At the second webinar, on December 9, 2010, the Work Group will review the results of the assessment re-run. The results of the assessment re-run will be reviewed by the Council's Scientific and Statistical Committee in January 2011, and the Scientific and Statistical Committee may recommend a revised level of acceptable biological catch to the Council when it meets in February 2011.

Copies of the agenda and other related materials can be obtained by calling (813) 348-1630 or can be downloaded from the Council's ftp site, ftp.gulfcouncil.org.

Although other non-emergency issues not on the agenda may come before the Gag Update Assessment Work Group for discussion, in accordance with the Magnuson-Stevens Fishery Conservation and Management Act, those issues may not be the subject of formal action during this meeting. Actions of the Gag Update Assessment Work Group will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Trish Kennedy at the Council (see ADDRESSES) at least 5 working days prior to the meeting.

Dated: November 12, 2010.
Tracey L. Thompson,
Acting Director, Office of Sustainable Fisheries, National Marine Fisheries Service.

[FR Doc. 2010-28955 Filed 11-16-10; 8:45 am]

BILLING CODE 3510-22-P